DEPARTMENT OF ENERGY

Federal Energy Regulatory Commission

[Project No. 2337-077]

Notice of Intent To Prepare a Draft and Final Environmental Assessment and Revised Procedural Schedule: PacifiCorp

On December 30, 2016, PacifiCorp filed an application for the continued operation of the 7.2-megawatt Prospect No. 3 Hydroelectric Project No. 2337. On March 15, 2017, the Commission issued a Notice of Application Ready for Environmental Analysis, and Soliciting Comments, Recommendations, Preliminary Terms and Conditions, and Preliminary Fishway Prescriptions (REA Notice). The REA notice included a procedural schedule that included preparation of a single Environmental Assessment (EA).

Based on the comments received in response to the REA notice, Commission staff has determined that its analysis of the proposed relicensing action will require preparation of a Draft and Final EA. Thus the application will be processed according to the following revised procedural schedule. Revisions to the schedule may be made as appropriate.

Milestone | Target date
Issue Draft EA | October 2017.
Comments on Draft EA due | November 2017.
Modified terms and conditions due | January 2018.
Commission issues Final EA | April 2018.

Any questions regarding this notice may be directed to Dianne Rodman at (202) 502-6077, or by email at dianne.rodman@ferc.gov.

Dated: June 23, 2017.
Nathaniel J. Davis, Sr.,
Deputy Secretary.

[FR Doc. 2017-13602 Filed 6-28-17; 8:45 am]

BILLING CODE 6717-01-P